DEPARTMENT OF COMMERCE

Foreign-Trade Zones Board

[B-53-2013]

Subzone 9F, Authorization of Production Activity, The Gas Company, LLC dba Hawai'i Gas, (Synthetic Natural Gas), Kapolei, Hawaii

On May 22, 2013, The Gas Company, LLC dba Hawai'i Gas submitted a notification of proposed production activity to the Foreign-Trade Zones (FTZ) Board for its facility within Subzone 9F, in Kapolei, Hawaii.

The notification was processed in accordance with the regulations of the FTZ Board (15 CFR part 400), including notice in the Federal Register inviting public comment (78 FR 33051-33052, June 3, 2013). The FTZ Board has determined that no further review of the activity is warranted at this time. The production activity described in the notification is authorized, subject to the FTZ Act and the Board's regulations, including Section 400.14.

Dated: September 19, 2013.
Andrew McGilvray,
Executive Secretary.

[FR Doc. 2013-23651 Filed 9-26-13; 8:45 am]

BILLING CODE 3510-DS-P